DEPARTMENT OF STATE

[Public Notice 4064]

Bureau of Educational and Cultural Affairs Request for Grant Proposals (RFGPs) in an Open Competition Seeking Cooperative International Projects To Introduce American and Foreign Participants to Each Other's Social, Economic, and Political Structures

Important Note: This Request for Grant Proposals contains language in certain sections that is new or significantly different from that used in the past. Please pay special attention to the following sections: General Program Guidelines; Ineligibility; Program Data Requirements, and Budget Guidelines and Cost-Sharing Requirements.

SUMMARY: The Office of Citizen Exchanges of the Bureau of Educational and Cultural Affairs announces an open competition for cooperative international projects that introduce American and foreign participants to each others' social, economic, and political structures and international interests. U.S.-based public and private non-profit organizations meeting the provisions described in Internal Revenue code section 26 U.S.C. 501(c)(3) may submit proposals that support international projects in the United States and overseas involving current or potential leaders.

Interested applicants should read the complete Federal Register announcement before addressing inquiries to the Office of Citizen Exchanges or submitting their proposals. Once the RFGP deadline has passed, the Office of Citizen Exchanges may not discuss this competition in any way with applicants until after the Bureau program and project review process has been completed.

Announcement Name and Number: All correspondence with the Bureau concerning this RFGP should reference the “Open Competition for Cooperative International Projects” and reference number: ECA/PE/C-03-01. Please refer to title and number in all correspondence or telephone calls to the Office of Citizen Exchanges.

FOR FURTHER INFORMATION CONTACT: Interested organizations/institutions may contact the Office of Citizen Exchanges, room 216, SA-44, U.S. Department of State, 301 4th Street, SW., Washington, DC 20547, telephone number 202/619-5326, fax number 202/260-0440, or pmidgett@pd.state.gov to request a Solicitation Package. The Solicitation Package contains detailed award criteria, required application forms, specific budget instructions, and standard guidelines for proposal preparation. Please specify Bureau Program Officer, Raymond H. Harvey, on all other inquiries and correspondence.

To Download a Solicitation Package Via Internet: The entire Solicitation Package also may be downloaded from the Bureau's Web site at http://exchanges.state.gov/education/RFGPs. Please read all information before downloading.

Program Information

Overview

We welcome proposals that directly respond to the following themes, regions and countries. Given budgetary considerations, projects in countries and for themes other than those listed will not be eligible for consideration and will be ruled technically ineligible. The themes listed below are important to the Office of Citizen Exchanges, but no guarantee is made or implied that grants will be made in all categories.

Proposals for single country, sub-regional and regional projects will be accepted. In some cases, where noted, multi-country proposals will be given priority consideration.

The Bureau encourages applicants to consider carefully the choice of target countries and issues. In order to prevent duplication of effort, proposals should reflect an understanding of the work of development agencies, where appropriate, on the target themes, and focus on countries for which there has been limited investment on the selected issue, or for which exchange activities would complement—not duplicate—current assistance programs.

All exchanges must be bilateral, with roughly equal numbers of participants from the U.S. and foreign countries or will be declared technically ineligible. Applicants should carefully review the following recommendations for proposals in specific geographical areas.

Sub-Saharan Africa (AF)

Contacts for African programs: Curtis Huff, 202/619-5972; e-mail: chuff@pd.state.gov, and Carol Herrera, 202/619-5405; e-mail: cherrera@pd.state.gov, James Ogul, 202/205-0535; e-mail: jogul@pd.state.gov.

For all Sub-Saharan African Countries and Two Special Projects Per Below for Namibia and Senegal

1. Creating awareness and changing behavior to combat HIV/AIDS: Proposals should foster awareness of risk and promote behavior changes crucial to control and eventual eradication of the disease. Proposals should address a selection of the following topics: Education strategies to teach prevention to people who don't believe it can happen to them or believe that infection is inevitable; stigma reduction strategies for people living with HIV/AIDS; engagement of political, religious, cultural and other leaders in public education efforts; grassroots mobilization and advocacy.

2. Professionalism & independence in the media: Proposals to build professionalism in the media—i.e., gaining an appreciation of and skill for objective reporting; developing subject specialization (e.g., legal, environmental, health, or financial issues); giving fair coverage to positive as well as negative news; separating opinion from news coverage; avoiding inflammatory presentations; and maintaining independence from special interests. Attention should be given to laws that constrain freedom of information and to forces that urge journalists to censor themselves. We encourage programs with hands-on activities such as professional internships, small group training and specially tailored projects, rather than academic seminars. Of special interest are projects on political reporting in a multi-party democracy.

Namibia media project: Proposals should develop and implement in Namibia a broadcast (radio and television) journalism-training program at the university level and for practicing journalists. The emphasis should be on practical education aimed at generating professional quality broadcasting products, including script writing, text editing, management of call-in programs, interviewing skills, location work, and application of Internet and other IT resources for program development. Applicants must work with one of the following: University of Namibia, the Polytechnic University in Windhoek, and/or the Namibia Broadcasting Corporation. The project should include development of a curriculum to be used by Namibian partners and 3-4 month internships in the U.S. for practicing Namibian journalists. Contact Curt Huff at 202/619-5972 to discuss internship possibilities. Applicants must also contact the Public Affairs Officer at the U.S. Embassy in Windhoek (tel 264-61-229801; fax 264-61-232476; e-mail Gkopf@pd.state.gov) for more detailed guidance on the type of program desired and contacts with whom to work. Although not a requirement, one or two other Sub-Saharan countries could be included in the project, and the best fit would be English-speaking countries where elections are anticipated in 2003.

3. Education for democracy at the grassroots and in government: Proposals should be school-based, producing a curriculum and training teachers in its use, or community-based, involving citizens in awareness and skill-building activities, with emphasis on the role that the individual should and can play in a democracy. Issues to be addressed might include the meaning of civil society, the separation of governmental powers, the role of non-governmental organizations, components of democracy and national identity, political tolerance, social diversity, rule of law, democratic and team-centered approaches to decision-making. Of special interest are projects that focus on leadership development for at-risk youth and school-based programs aimed at inculcating a culture of lawfulness that counters crime and corruption by educating young people on their civil, moral, and legal obligations to society. Proposals should include different ethnic and religious groups in order to expand the dialogue for coexistence.

4. U.S.-Africa trade, finding markets, using AGOA: The African Growth and Opportunities Act (AGOA), signed into law in May of 2000, offers qualifying African countries (there are 35 as of this time) preferential access to U.S. markets for their industries. Proposals should “jumpstart” the AGOA process by providing medium and small African business entrepreneurs and members of business associations an understanding of AGOA and of the American market place. Projects should enhance African understanding of U.S. business norms and actual practices, of U.S. customs operations, product distribution and retailing, and help them develop business linkages and relationships with manufacturers and business in their respective sectors.

5. Organizational Management: businesses, hospitals, NGOs, educational institutions: Proposals should develop training programs in management that would be useful in a variety of settings (e.g., businesses, NGOs, educational institutions, hospitals, government offices), meeting 21st century needs. Topics might include strategic planning, budgeting, personnel issues, delegation, leadership, negotiation, and presentation skills.

6. Judicial reform, independence, and development: Proposals should address the educational and organizational needs of judges and their staffs, streamlining of court procedures, and development of codes of conduct. Such projects should be conducted in close cooperation with in-country stakeholders who would help to define specific objectives and plan activities. The project should build interest and cooperation between U.S. and African judges, staffs, and professional organizations.

Senegalese Judicial project: Proposals would focus on training Senegalese judges in areas such as contract law, business law, transparency/combating corruption, money laundering, and alternative sentencing. We encourage linkages between the Center for Judicial Training of Senegal and the National Judicial College at the University of Nevada-Reno. The exchange should include seminars, courtroom visits, trial simulations and professional appointments. Activities in Senegal should include seminars and workshops for judicial professionals as well as business groups, NGOs and academics.

7. Cross-cultural, inter-ethnic and inter-religious dialogues: Proposals should promote constructive dialogue and the reduction of stereotyping, violence, hatred, and incitement among diverse groups. A proposal could address a particular conflict or develop a broadly applicable educational program. It could work through the media or educational institutions or NGOs or other implementation channels. It should build a valued working relationship between U.S. and African professionals in conflict management and resolution, and it should develop, test, and result in a training program that can continue after grant support is finished.

Of particular interest would be a proposal on Post-Conflict Recovery (consideration should be given to countries such as Angola, Democratic Republic of the Congo, Sierra Leone, Rwanda, Ethiopia and Eritrea). Issue should include setting priorities and reconciliation methodologies after a long war, i.e. family reunification, land tenure, encouraging a return to the countryside, permanent resettlement in place vs. return to pre-conflict homes, de-mining and major infrastructure repair.

8. Strengthening women's roles in society—business, politics, and social leadership: Proposals should promote equal opportunity for women in one or more areas of life such as business, politics, social and other areas of leadership. Projects might provide leadership training, network building, advocacy strategies, analyses of discriminatory practices, confidence building activities, and visions of a more equitable society. A rationale should be developed on whether to include men in the project. Projects should also build a valued working relationship between U.S. and African partners.

9. Environmental education and protection: Proposals should develop exchanges which focus public awareness on the threat posed by environmental deterioration, facilitate efforts to combat the threat by mobilizing governmental and/or non-governmental action, and work at multiple levels to educate and to develop solutions. Of special interest are proposals that would strengthen national park systems, that would clean up major cities, and that would make clean water much more widely available. ECA Bureau funds cannot be used for construction projects, but should be used for planning and mobilizing forces to accomplish these goals. Proposals should build a valued working relationship between Americans and Africans that is likely to continue after grant support is finished.

East Asia and the Pacific (EAP)

The contact for East Asian and Pacific programs: Steve Lebens, 202/260-5485; e-mail: slebens@pd.state.gov.

For China

1. Rule of Law: Proposals should include the development of an independent judiciary; the enforcement of commercial laws such as intellectual property rights protection, sanctity of contracts, and competition policy; labor rights; government accountability; and alternative dispute resolution. The objective is to acquaint officials, journalists, lawyers and other relevant professionals with the concepts and practice of law in the U.S. and China.

2. World Trade Organization Implementation: Proposals should focus on the issues of World Trade Organization implementation, including TRIPS compliance, Intellectual Property Rights enforcement, regulatory transparency, sector reforms, and measures that government and business can take to ease the displacement of workers in the process of economic liberalization.

3. Volunteerism: Proposals should emphasize the role that volunteer groups play in giving voice to citizens' concerns and how such organizations succeed in developing effective volunteer networks.

4. Women in Society: Proposals should foster a dialogue on effectively addressing the common challenges women face in both countries, including combating family violence, a rapidly growing concern in China.

Please note that the need to involve individuals and organizations in the Western region of China's vast interior should be reflected in successful proposals, particularly in the Rule of Law and WTO proposals.

For Indonesia, Malaysia, Philippines or Thailand

1. Conflict Resolution: Proposals should focus on the use of arbitration and reconciliation techniques to create conditions for the peaceful resolution of disputes in a multi-ethnic, multi-cultural, multi-religious society. Participants could be leaders from government, civil society, and religious institutions as well as from the media. Activities promoting cultural and religious tolerance are especially welcome, as are projects, which factor in follow-up activities.

2. Religious Institutions in a Democracy: Proposals should build a better understanding of the role religion plays in each country, with emphasis on how religious groups and institutions participate in a democratic, secular society in which the separation of church and state and tolerance are the guiding principles. Participants could be religious as well as lay leaders. Activities should illustrate how American religious leaders, both lay and ordained, function free of state control, contribute to society at large, and provide spiritual and ethical guidance. Balanced, two-way exchanges are essential.

3. Education: Proposals should promote an understanding of the role of public and private schools, with and without religious affiliations, in ethnically, culturally, and religiously diverse societies. Participants could be schoolteachers, administrators, and education officials. Activities should illustrate how education can promote tolerance and encourage understanding of democratic values. Balanced, two-way exchanges are essential.

Near East and North Africa (NEA); South Asia (SA)

Contacts for NEA and SA programs: Thomas Johnston, 202/619-5325; {tjohnsto@pd.state.gov} or Susan Krause, 202/619-5332; {skrause@pd.state.gov}.

The countries/entities comprising the NEA and SA Areas are listed below. Currently there is no U.S. mission in Iran, Iraq, or Libya. Please consider countries and specific themes listed below as guides to potential exchange partnerships. But note that all themes may be appropriate for single country, multi-country or regional proposals.

Countries/Entities of the Near East and North Africa—Algeria; Bahrain; Egypt; Iran; Iraq*; Israel; Jordan; Kuwait; Lebanon; Libya; Morocco; Oman; Qatar; Saudi Arabia; Syria; Tunisia; the United Arab Emirates (UAE); the West Bank and Gaza; Yemen.

*Note: For Iraq—grant proposals may only be submitted for projects that involve Iraqis residing in the areas of northern Iraq outside the control of the government of Iraq and/or Iraqi expatriates living in other parts of the Middle East. Regarding northern Iraq, current restrictions make the authorization of the travel of American citizens to any part of Iraq under a USG grant unlikely, and the expenditure of USG funds in Iraq requires a license from Office of Foreign Asset Control (OFAC). OFAC can and does authorize the provision of a broad range of services and materials that conform to the U.S. Oil-for-Food Goods Review List. Programming with Iraqis from the North or expatriates living outside Iraq that would take place in the United States or in other countries is not subject to these restrictions.

Countries of South Asia—Afghanistan; Bangladesh; Bhutan; India; the Maldives; Nepal; Pakistan; Sri Lanka.

For India; Bangladesh; Pakistan; Iraq; Nepal; Egypt; Morocco; Jordan; Israel; the West Bank and Gaza; Lebanon; Syria; Saudi Arabia; Kuwait; the UAE

1. Citizen Participation and Advocacy (Building and Strengthening Non-governmental Organizations): Proposals should promote an understanding of the proper role of NGO's, facilitate Internet communication, and develop cooperation between educators and NGO's and between government agencies and NGO's for community action. Social and political activism, encouraged, focused, and channeled through non-governmental organizations, is a basic underpinning of democratic society. Strengthening NGO advocacy skills, management, grassroots support, recruitment and motivation of volunteers, fundraising and financial management, media relations, and networking for mutual support and reinforcement will strengthen democratic/civil society trends in the region. It is essential that organizations submitting proposals in this category recognize that democratic activism may be viewed with suspicion by some of the governments in the area and that foreign involvement with local NGO's must be carefully thought out and approached with subtlety and sensitivity. Close consultation with American Embassy/Consulate officers is critical.

For India; Israel; Iraq; the West Bank and Gaza; Pakistan; Lebanon; Sri Lanka

2. Conflict Management/Ethnic Tolerance and Cooperation: Proposals should focus on redefining inter-communal conflict in specific situations and, through facilitating dialogue—among teachers, professionals, businesspersons, journalists, community activists—promote better understanding among parties in conflict. A community that expends its time, its energy, and its material resources on offensive or defensive combat is unable to develop or maintain a civil basis for democratic institutions. Communal and ethnic tolerance is difficult to achieve, and the problem has worsened with the rise of community-based political groupings. There are numerous community groups working to bring about resolution to the challenge posed by ethnic nationalism, and the American experience of absorbing, integrating, and accommodating diverse communities from various parts of the world into a civil, as opposed to an ethnically defined, polity would be useful to these groups. Of particular relevance would be the experience of programs that teach tolerance in either a formal setting or in novel, arts/media-based contexts.

For Israel; the West Bank and Gaza; Egypt; Syria; Lebanon; Tunisia; Morocco; Jordan; India; Nepal; Pakistan; and Iraqi

3. Journalism Training, Professional Skills, and Responsibility/The Role of the Press in a Democratic Society: Proposals should promote professionalism and provide training and advice to individuals and organizations devoted to the protection of press freedoms and to the defense of journalists and their right to practice their profession with integrity. The development of professionalism in media—gaining an appreciation for the importance of objective reporting; the ethics of presenting a true and balanced account of events; developing subject specialization; applying rational management techniques to newspaper publishing; etc.—remains an area in which serious efforts must be expended if the fourth estate is to fulfill its potential as a pillar of democratic society. Proposals should focus on how professional journalists deal with laws that constrain press freedoms or promote self-censorship.

For Syria

A proposal is sought to assist the Faculty of Journalism of the University of Damascus in developing a journalism certification program for journalism graduates that will deal with the issues outlined above. The positive role of a free and open press in a democracy cannot be overstated; one of the tasks in the development of a free press is training and sustaining a corps of professional journalists. One means for doing so is working with university journalism faculties to strengthen curriculum, train professors, seek international accreditation, and develop internship programs.

For Egypt; India; Israel; Iraq; Syria; Lebanon; Saudi Arabia; Kuwait; UAE; Bahrain; Oman; Qatar; Yemen. This theme is also appropriate for a South Asia regional exchange or a regional project involving the countries of the Arabian Gulf

4. Women's Activism, Political Activism and Leadership, and Organizational Skills: Proposals should acquaint elected women leaders with skills in budget, human resource management, policy analysis, legislative drafting, and fighting corruption. Although the principle of equal rights for women and minorities has attained the status of a basic value in many legal systems throughout the region, women continue to exercise disproportionately little political and social influence. While some women's groups have organized themselves and actively campaign for equal rights and a greater say in local issues, women need to learn how to develop consensus on issues and build a constituency, mobilize support—both urban/political and grassroots—raise money at the municipal, state, and national levels, and how to win elections. Once elected, at either the state or the national level, women need to know how to effectively represent the interests of their constituents. They also need to know how to advocate for changes in policy as well as practice in the areas of health care, education, domestic violence, and equal treatment under the law.

For All Countries; Iraq

5. Good Governance/The Accountability of Government: Proposals should assist in the development of mechanisms of control to counteract corruption. Although concepts such as good governance and ethics, transparency, responsiveness, and the fight against corruption play an increasing role in public debates, in the media, and in regional conferences, there is little evidence of reform. A populace experiencing abuses of power and corruption on a daily basis loses confidence in its institutions. The American NGO would work with indigenous NGO's, citizens' rights groups, journalists, human rights organizations, and government officials to share experiences on how best to expose and combat corruption. Success in making government at all levels accountable and transparent would contribute greatly toward the development of democratic institutions and civic responsibility and would encourage increased foreign investment.

For Egypt

The Egyptian People's Assembly would welcome the opportunity to cooperate with one or more American institutions in arranging exchange visits, training, and possibly internships/fellowships for young Assembly staffers/civil servants. Focus areas would include legislative research and drafting, constituent relations, public affairs, media relations, etc. American hosts might include both the U.S. Congress and state legislatures.

For India; Pakistan; Nepal; Afghanistan; Morocco; Egypt; Iraq; Jordan; General

6. Adult Education/Teacher and Technical Training: Proposals should lead to an upgrading of teacher training and development of technical education curricula. In countries throughout the Near East, North Africa, and South Asia, the workforce is characterized by an abundance of underemployed university graduates and an oversupply of unskilled day laborers. While universities proliferate, there are very few institutions in which one can learn how to be a skilled teacher, how to operate a water treatment plant, how to implement environmentally and scientifically sound agricultural practices, or how to design and plan road safety measures. There is a real need for trained teachers at all levels as well as for technically qualified, mid-level workers. In order to develop sustainable economies that can produce a reasonable standard of living for growing populations in the 21st century, many NEA and SA countries must rapidly upgrade their teacher training and their technical education curricula.

For Egypt; Israel; Jordan; the West Bank and Gaza; Lebanon; Bahrain; India; Nepal

7. Environmental Protection/Natural Resources Management: Proposals should develop exchanges which enhance public awareness of the threat posed by environmental deterioration, facilitate efforts to combat the threat by mobilizing either governmental or non-governmental organizations, engage municipal officials, planners, and service providers, and work at multiple levels to educate and to develop solutions. Environmental deterioration is closely linked, both directly and indirectly, with issues of public health (air and water pollution; solid waste management) and economic welfare (preservation of natural sites; eco-tourism; agricultural productivity; the rational management of natural resources; the balance between industrial growth and environmental concerns, especially in urban areas). Since pollutant-laden air and impure groundwater are trans-boundary issues, faced by all countries/entities, multi-country proposals would be welcome. Of special concern to India is the need for increased awareness and training regarding the treatment and disposal of hazardous, often medical/bio-medical waste.

For the Middle East Region

Proposals should develop exchanges which enhance public awareness of natural resources management, largely on the allocation, conservation, purification, and re-use of water, potentially with an educational component.

For the Middle East Region; Iraq

8. Public Health/Mental Health: Proposals should address the introduction or improvement of mental health programs dealing with traumatic experiences or violence. Issues of public health are central to the social well-being and to the economic productivity and stability of a country. Proposals should include education/training designed to address problems resulting from traumatic experiences, or to address the behavior of individual citizens living in an environment of violence.

(Formal medical education and dispensing of medications are outside the purview of this theme and will not be accepted activities for funding based on exchange guidelines.)

For India

Proposals should promote exchange programs among governmental or non-governmental organizations, municipal officials, planners, and service providers to educate and develop solutions for current practices having a negative impact on public health. Such practices include lack of adequate water treatment, inadequate vehicle exhaust standards, food processing facilities, waste collection and disposal (including biomedical waste), lack of sterile practices at hospitals, the absence of screening at blood banks, the operation of aging smokestack industries, etc.

For Israel; the West Bank and Gaza; Lebanon; India: Pakistan; Bangladesh

Proposals should investigate the causes of increased societal and/or in-school violence, to train individuals such as teachers and youth leaders to recognize trauma/stress-related behavior and address it, and to develop programs focused on youth and young adults—the most common perpetrators and victims of the violence—are needed. Statistics in Israel indicate an alarming increase in incidents of violence in Israeli society, particularly school violence and domestic violence. Similar patterns appear to exist in the West Bank and Gaza. Educators posit that the ubiquitous violence and uncertainty that characterize the Israeli-Palestinian confrontation has a spillover effect, with students acting out in the schools what they witness in the streets and at home.

For NEA and SA Region wide; India; Iraq

9. Rule of Law/Administration of Justice: Proposals should introduce judges of both lower and higher courts to the functioning of the legal systems in the U.S. and foreign countries, with emphasis on introducing the principles and practices of U.S. jurisprudence and such fundamental procedures as alternate dispute resolution, early neutral evaluation, case management, the acceptance of guilty pleas, continuous trial proceedings, and arbitration/mediation. A well-trained, independent judiciary is fundamental to a democratic political and social system. Public perception of unequal and unfair treatment before the bench of women, members of ethnic minority communities and the poor is widespread in the region. Even well qualified and well-intentioned judges are obstructed in their efforts to deliver justice by case backlog, by procedural delay, and by insufficient authority to exercise judicial discretion in court management.

For Pakistan or South Asia Regional

Proposals should address such issues as performance standards (efficiency; competence; fairness of administration), ethical standards (impropriety; corruption; discrimination against specific groups, such as women or minorities), and other related concerns. The goal of these exchanges is to enhance the professionalism of the judiciary, the quality of the relationship between the judiciary and the bar, and, by extrapolation, raise the quality of the administration of justice.

For Israel; Jordan; the West Bank and Gaza; Egypt; Iraq; Pakistan; Regionwide

10. Civic Education: Proposals should focus on integrating civic education concepts such as increased citizen awareness, participation, volunteerism, and community service into elementary and secondary education. The development of ethics and civic responsibility/virtue through education is an important step in creating a more civil and democratic society. Middle Eastern groups are particularly interested in learning how American school systems have incorporated in their curricula community service, environmental campaigns, and other activities that involve students in the larger society.

Western Hemisphere Affairs (WHA)

The Bureau of Western Hemisphere Affairs includes the countries of Canada, Mexico, Central and South America, and the Caribbean.

The contact for Western Hemisphere Affairs programs: Laverne Johnson, 202/619-5337; e-mail: ljohnson@pd.state.gov.

For Peru, Mexico, Chile, Uruguay, and Paraguay

1. Civil Society Participation in Government: Proposals should focus on the role of NGOs in influencing political processes, lobbying, and networking with other organizations. Participants would be representatives of politically engaged NGOs with a good government focus. Project activities might focus on how municipal teams, including government officials, educational leaders, NGOs, business leaders, etc., join forces to develop approaches to economic development or solutions to major problems (environment, crime, drug use, etc.). Ideally, participants will be committed activists who will share ideas, successes, and challenges from the two countries.

For Brazil, Argentina, Peru, Uruguay, Venezuela, Guatemala, Costa Rica, and Honduras

2. Improving Civil Rights for Afro-Latino Minorities:

Proposals should focus on Non-Governmental Organizations (NGOs) working for the inclusion of Afro-Latinos and other minorities in higher education, modernization of curriculum to counter negative images of those groups, and the training and education of young leaders from those communities.

For Caribbean and Haiti

3. HIV/AIDS Awareness: Proposals should focus on creative community-based initiatives that will promote better health care and prevent the spread of HIV/AIDS. Proposals should focus on educating girls and young women on some of the following topics: the need for prevention and stigma reduction strategies for people living with HIV/AIDS, engagement of political, religious, cultural and other leaders in public education efforts; grassroots mobilization and advocacy.

For Chile, Guatemala, Peru, and Nicaragua

4. Protection of Indigenous Cultures in a Shrinking World:Proposals would address the protection of indigenous cultures by demonstrating ways in which technology can be adapted to local conditions, and how these technologies can be used to protect and preserve and disseminate information about local cultural heritage. Emphasis under this theme is on assisting countries in preserving their cultural heritage through programs designed to reduce the threat of pillage of sites representing irreplaceable cultural heritage, and to create opportunities to develop long-term strategies for preserving cultural property through training and conservation, museum development, and public education. Projects might include supporting the preservation of cultural sites, objects in a site, museum or similar institution, or forms of traditional cultural expression.

For Peru, Brazil, Nicaragua, and Chile

5. Democracy Support/Good Governance: Proposals may address any of the following program concepts designed to enhance democracy within these countries: Anti-corruption, Administration of Justice (also Comparative Legal Systems), Civilian-Military Relations, Civil Society Participation in Government, Leadership for Democracy, and Alternative Dispute Resolution as a Solution to Inter-ethnic conflict. Proposals should focus on how a democratic government functions from the community to the national level in addressing these concepts.

For Chile, Mexico, and Brazil

6. Sustainable Economic Development: Proposals should focus on the impact of globalization on the national economy with emphasis on both the benefits of globalization and the inherent risks involved in participating in the global economy. Projects, which include orderly market compliance, intellectual property rights (IPR) enforcement, regulatory transparency, sector reforms and measures that government and business can take to ease the displacement of workers in the process of economic liberalization. A sub-theme would include a discussion of how the U.S. implements commercial diplomacy including how we negotiate and plan our trade/commercial relations.

Central and Eastern Europe (CEE) and Eurasia

Requests for proposals involving the following countries will be announced in separate competitions: CEE—Albania, Bosnia-Herzegovina, Bulgaria, Croatia, Czech Republic, Estonia, Hungary, Latvia, Lithuania, Macedonia, Poland, Romania, Slovak Republic, and Slovenia. Eurasia—Armenia, Azerbaijan, Belarus, Georgia, Kazakhstan, Kyrgyzstan, Moldova, Russia, Tajikistan, Turkmenistan, Ukraine, and Uzbekistan.

Proposals involving these regions WILL NOT be accepted under this competition and if received, will be deemed technically ineligible.

Western Europe (WEU)

Proposals involving this region WILL NOT be accepted under this competition and if received, will be deemed technically ineligible.

General Program Guidelines

Applicants must identify the local organizations and individuals in the counterpart country with whom they are proposing to collaborate and describe in detail previous cooperative programming and/or contacts. Specific information about the counterpart organizations' activities and accomplishments is required and must be included in the section on Institutional Capacity. All proposals must contain letters of support tailored to the project being proposed from all foreign-country partner organizations. Failure to include the above information and documentation will make a proposal technically ineligible.

Exchanges and training programs supported by institutional grants from the Bureau should operate at two levels: they should enhance institutional partnerships, and they should offer practical information and experience to individuals and groups to assist them with their professional responsibilities. Strong proposals usually have the following characteristics:

• A proven track record of working in the proposed issue area;

• Experienced staff with language facility and a commitment by the staff to monitor projects locally to improve accountability;

• A clear, convincing plan showing how permanent results will be accomplished as a result of the activity funded by the grant; and

• A follow-on plan beyond the scope of the Bureau grant.

Proposal narratives must demonstrate an organization's willingness to consult closely with the Public Affairs Section and other officers at the U.S. Embassy. Proposal narratives must confirm that all materials developed for the project will acknowledge USG funding for the program as well as a commitment to invite representatives of the Embassy and/or Consulate to participate in various program sessions/site visits. Please note that this will be a formal requirement in all final grant awards.

Suggested Program Designs

Bureau-supported exchanges may include internships; study tours; short-term, non-technical experiential learning, extended and intensive workshops and seminars taking place in the United States or overseas. Examples of possible program activities include.

1. A U.S.-based program that includes: orientation to program purposes and to U.S. society; study tour/site visits; professional internships/placements; interaction and dialogue; hands-on training; professional development; and action plan development.

2. Capacity-building/training-of-trainer (TOT) workshops to help participants to identify priorities, create work plans, strengthen professional and volunteer skills, share their experience to committed people within each country, and become active in a practical and valuable way.

3. Seed/small grants to indigenous non-profit organizations to support community-based educational projects that build upon exchange activities and that address issues of local concern. Proposals may include a component for a Seed/Small Grants Competition (often referred to as ‘sub-grants' or ‘secondary grants'). This requires a detailed plan for recruitment and advertising; description of the proposal review and award mechanism; a plan for how the grantee would monitor and evaluate small grant activity; and a proposed amount for an average grant. The small grants should be directly linked to exchange activities. Small/seed grants may not be used for micro-credit or re-loaning purposes. Small/seed grants may not exceed 10% of the total value of the grant funds sought from ECA.

4. Site visits by U.S. facilitators/experts to monitor projects in the region and to provide additional training and consultations as needed.

5. Content-based Internet training/ cyber-training to encourage citizen participation in workshops, fora, chats, and/or discussions via the Internet that will stimulate communication and information sharing among key opinion leaders on priority topics as a form of cost sharing. Proposals that include Internet utilization must reflect knowledge of the opportunities and obstacles that exist for use of information technologies in the target country or countries, and, if needed, provide hardware, software and servers, preferably as a form of cost sharing. Federal standards are under review and their adoption may impact on the implementation of these programs.

Ineligibility

All proposals will undergo an initial review to determine their technical eligibility. A proposal will be deemed technically ineligible for consideration if:

1. It does not fully adhere to the guidelines established in this document and in the Proposal Submission Instructions;

2. It is not received by the deadline;

3. It is not submitted by a U.S. based Public Private not for profit organization meeting provisions described in Internal Revenue code section 26 USC 503 c (3);

4. The foreign country or geographic location is ineligible.

5. The proposal does not include an in-country foreign partner organization(s) and does not contain letters of support from foreign partners, tailored to the proposed project and specific information in the narrative about the partner organization's past activities and accomplishments;

6. The proposed exchange activity is not bilateral in scope with roughly equal numbers of participants from the U.S. and foreign countries;

7. It does not provide at least 50% cost-sharing of the grant funds sought from ECA;

8. It does not confirm that all materials developed for the project will acknowledge USG funding for the program;

9. It does not include a commitment to invite representatives of the Embassy and/or Consulate to participate in various program sessions/site visits.

Activities ineligible for support: Vocational training (an occupation other than one requiring a baccalaureate or higher academic degree; i.e., clerical work, auto maintenance, etc., and other occupations requiring less than two years of higher education) and technical training (special and practical knowledge of a mechanical or a scientific subject which enhances mechanical, narrowly scientific, or semi-skilled capabilities) are ineligible for support. In addition, academic scholarship programs are ineligible for support.

The Office does not support proposals limited to conferences or seminars (i.e., one to fourteen-day programs with plenary sessions, main speakers, panels, and a passive audience). It will support conferences only insofar as they are a small part of a larger project in duration and scope that is receiving Bureau funding from this competition. The Office will only support workshops, seminars and training sessions that are an integral part of a larger project. No funding is available exclusively to send U.S. citizens to conferences or conference-type seminars overseas; nor is funding available for bringing foreign nationals to conferences or to routine professional association meetings in the United States.

Selection of Participants

All grant proposals should clearly describe the type of persons who will participate in the program as well as the process by which participants will be selected. It is recommended that for programs including U.S. internships, grant applicants submit letters tentatively committing host institutions to support the internships. In the selection of foreign participants, the Department and U.S. Embassies retain the right to review all participant nominations and to accept or refuse participants recommended by grantee institutions. When participants are selected, grantee institutions will provide the names of American participants and brief (two pages) biographical data on each American participant to the Office of Citizen Exchanges for information purposes. Priority in two-way exchange proposals will be given to foreign participants who have not previously traveled to the United States. (See section below on requirements for maintenance of and provision to ECA of data on participants and program activities.)

Programs must comply with J-1 visa regulations. Please refer to Solicitation Package for further information.

Evaluation

In general, evaluation should be ongoing and evolving throughout the duration of the project. The evaluation plan will incorporate an assessment of the program from a variety of perspectives. Specifically, project assessment efforts will focus on: (a) Determining if objectives are being met or have been met, (b) identifying any unmet needs, and (c) assessing if the project has effectively discovered resources, advocates, and financial support for sustainability of future projects. Informal evaluation through discussions and other sources of feedback will be carried out throughout the duration of the project. Formal evaluation will be conducted at the end of each phase, using instruments designed specifically to measure the impact of the activities and should obtain participants' feedback and comments on the program content and administration. A detailed evaluation will be conducted at the conclusion of the project and the report will be submitted to the Department of State Bureau of Educational and Cultural Affairs. When possible, the evaluation should be done by an independent evaluator.

Program Data Requirements

Organizations awarded grants will be required to maintain specific data on program participants and activities in an electronically accessible database format that can be shared with the Bureau of Educational and Cultural Affairs as required. As a minimum, the data must include the following:

• Name, address, contact information and biographic sketch of all persons who travel internationally on funds provided by the grant or who benefit from the grant funding but do not travel.

• Itineraries of international and domestic travel, providing dates of travel and cities in which any exchange experiences take place.

Budget Guidelines and Cost-Sharing Requirements

Grants awarded to eligible organizations with less than four years of experience in conducting international development or exchange programs will be limited to $60,000. Applicants must submit a comprehensive budget for the entire program. Grant awards will range from $125,000 to $175,000. There must be a summary budget as well as breakdowns reflecting both administrative and program budgets. Applicants may provide separate sub-budgets for each program component, phase, location, or activity to provide clarification.

Since Bureau grant assistance constitutes only a portion of total project funding, proposals should list and provide evidence of other anticipated sources of financial and in-kind support. To be eligible for consideration under this competition, proposals must provide a minimum of 50 percent cost sharing of the amount of grant funds sought from ECA, although proposals with higher cost-sharing levels are welcome.

Example: A proposal requests $140,000 in grant funds from ECA, for a project with a total budget of $500,000. The required minimum allowable cost-sharing offered must amount to at least $70,000. In this case, the cost-sharing far exceeds the minimum, since actual cost-sharing is $360,000.

When cost sharing is offered, it is understood and agreed that the applicant must provide the minimum amount of cost sharing as stipulated in this RFGP and later included in an approved grant agreement. Cost sharing may be in the form of allowable direct or indirect costs. For accountability, you must maintain written records to support all allowable costs, which are claimed as being your contribution to cost participation, as well as costs to be paid by the Federal government. Such records are subject to audit. The basis for determining the value of cash and in-kind contributions must be in accordance with OMB Circular A-110, (Revised), Subpart C.23—Cost Sharing and Matching. In the event you do not provide the minimum amount of cost sharing as stipulated in the approved budget, ECA's contribution will be reduced proportionately to the contribution.

The following project costs are eligible for consideration for funding:

1. Travel costs. International and domestic airfares; visas; transit costs; ground transportation costs. Please note that all air travel must be in compliance with the Fly America Act. There is no charge for J-1 visas for participants in Bureau sponsored programs.

2. Per Diem. For the U.S. program, organizations have the option of using a flat $160/day for program participants or the published U.S. Federal per diem rates for individual American cities. For activities outside the U.S., the published Federal per diem rates must be used. NOTE: U.S. escorting staff must use the published Federal per diem rates, not the flat rate. Per diem rates may be accessed at http://www.policyworks.gov/

3. Interpreters. If needed, interpreters for the U.S. program are available through the U.S. Department of State Language Services Division. Typically, a pair of simultaneous interpreters is provided for every four visitors who need interpretation. Bureau grants do not pay for foreign interpreters to accompany delegations from their home country. Grant proposal budgets should contain a flat $160/day per diem for each Department of State interpreter, as well as home-program-home air transportation of $400 per interpreter plus any U.S. travel expenses during the program. Salary expenses are covered centrally and should not be part of an applicant's proposed budget. Locally arranged interpreters with adequate skills and experience may be used by the grantee in lieu of State Department interpreters, with the same 1:4 interpreter to participant ratio. Costs associated with using their services may not exceed rates for U.S. Department of State interpreters.

4. Book and cultural allowance. Foreign participants are entitled to and escorts are reimbursed a one-time cultural allowance of $150 per person, plus a participant book allowance of $50. U.S. program staff members are not eligible to receive these benefits.

5. Consultants. Consultants may be used to provide specialized expertise, design or manage development projects or to make presentations. Honoraria generally do not exceed $250 per day. Subcontracting organizations may also be used, in which case the written agreement between the prospective grantee and subcontractor should be included in the proposal. Subcontracts should be itemized in the budget.

6. Room rental. Room rental may not exceed $250 per day.

7. Materials development. Proposals may contain costs to purchase, develop, and translate materials for participants.

8. Equipment. Proposals may contain limited costs to purchase equipment crucial to the success of the program, such as computers, fax machines and copy machines. However, equipment costs must be kept to a minimum, and costs for furniture are not allowed.

9. Working Meal. The grant budget may provide for only one working meal during the program. Per capita costs may not exceed $5-8 for a lunch and $14-20 for a dinner, excluding room rental. The number of invited guests may not exceed participants by more than a factor of two-to-one. Interpreters must be included as participants.

10. Return travel allowance. A return travel allowance of $70 for each foreign participant may be included in the budget. This may be used for incidental expenses incurred during international travel.

11. Health Insurance. Foreign participants will be covered under the terms of a U.S. Department of State-sponsored health insurance policy. The premium is paid by the U.S. Department of State directly to the insurance company. Applicants are permitted to included costs for travel insurance for U.S. participants in the budget.

12. Administrative Costs. Costs necessary for the effective administration of the program may include salaries for grant organization employees, benefits, and other direct or indirect costs per detailed instructions in the Solicitation Package.

Please refer to the Solicitation Package for complete budget guidelines and formatting instructions.

Deadline for Proposals

All proposal copies must be received at the Bureau of Educational and Cultural Affairs by 5 p.m. Washington, DC time on Friday, October 4, 2002. Faxed documents will not be accepted at any time. Documents postmarked the due date but received on a later date will not be accepted. Each applicant must ensure that the proposals are received by the above deadline.

Applicants must follow all instructions in the Solicitation Package. The original and 12 copies of the application should be sent to: U.S. Department of State, SA-44, Bureau of Educational and Cultural Affairs Ref.: ECA/PE/C/-03-01, Program Management, ECA/EX/PM, Room 534, 301 4th Street, SW., Washington, DC 20547.

Applicants must also submit the “Executive Summary” and Proposal Narrative” sections of the proposal on a 3.5″ diskette, formatted for DOS. These documents must be provided in ASCII text (DOS) format with a maximum line length of 65 characters. The Bureau will transmit these files electronically to the Public Affairs section at the US Embassy for its review, with the goal of reducing the time it takes to get embassy comments for the Bureau's grants review process.

Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and physical challenges. Applicants are strongly encouraged to adhere to the advancement of this principle both in program administration and in program content. Please refer to the review criteria under the ‘Support for Diversity' section for specific suggestions on incorporating diversity into the total proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

Review Process

Proposals will be deemed ineligible if they do not fully adhere to the guidelines stated herein and in the Solicitation Package. The program office, the Public Diplomacy section and other elements at the U.S. Embassy will review all eligible proposals. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for grants resides with the Bureau's Grants Officer.

Review Criteria

Technically eligible applications will be competitively reviewed according to the criteria stated below. These criteria are not rank ordered and all carry equal weight in the proposal evaluation after all required elements have been met (required cost-sharing, letters of support, willingness to work with U.S. embassies, etc.).

1. Program planning to achieve program objectives: Proposals should clearly demonstrate how the institution plans to achieve the program's objectives. Objectives should be reasonable, feasible, and flexible. The proposal should contain a detailed agenda and relevant work plan that demonstrates substantive undertakings and logistical capacity. Agenda and plan should adhere to the program overview and guidelines described above.

2. Institutional Capacity: Proposed personnel and institutional resources should be adequate and appropriate to achieve the program or project's goals. For technical projects, foreign experts and their local partners will be required to have the necessary education, training and experience for the work to be undertaken, in addition to language skills where applicable.

3. Institutional Record/Ability: Proposals should demonstrate an institutional record of successful development or exchange programs, including responsible fiscal management and full compliance with all reporting requirements for past Bureau grants as determined by Bureau Grant Staff. The Bureau will consider the past performance of prior recipients and the demonstrated potential of new applicants. Many successful applicants will have a multiyear track record of successful work in the selected country or within the region.

4. Multiplier effect/impact: Proposed programs should strengthen long-term mutual understanding, including maximum sharing of information and establishment of long-term institutional and individual linkages.

5. Support of Diversity: Proposals should demonstrate substantive support of the Bureau's policy on diversity. Achievable and relevant features should be cited in both program administration (selection of participants, program venue and program evaluation) and program content (orientation and wrap-up sessions, program meetings, resource materials and follow-up activities).

6. Follow-on Activities: Proposals should identify other types of exchanges or linkages that might be undertaken after completion of the Bureau supported activity.

7. Monitoring and Project Evaluation Plan: Proposals should provide a detailed plan for monitoring and evaluating the program. The evaluation plan should identify anticipated outcomes and performance requirements clearly related to program objectives and activities and include procedures for ongoing monitoring and corrective action when necessary. The identification of best practices relating to project administration is also encouraged, as is the discussion of unforeseen difficulties.

8. Cost-effectiveness/Cost-sharing: The overhead and administrative components of the proposal, including salaries and honoraria, should be kept as low as possible. All other items should be necessary and appropriate. Proposals must provide 50% cost sharing (of the amount of grant funds requested from ECA) through other private sector support as well as institutional direct funding contributions.

Authority

Overall grant making authority for this program is contained in the Mutual Educational and Cultural Exchange Act of 1961, Public Law 87-256, as amended, also known as the Fulbright-Hays Act. The purpose of the Act is “to enable the Government of the United States to increase mutual understanding between the people of the United States and the people of other countries* * *; to strengthen the ties which unite us with other nations by demonstrating the educational and cultural interests, developments, and achievements of the people of the United States and other nations* * * and thus to assist in the development of friendly, sympathetic and peaceful relations between the United States and the other countries of the world.”

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements.

Notification

Final awards cannot be made until funds have been appropriated by Congress, allocated and committed through internal Bureau procedures.

Dated: July 2, 2002.
Patricia S. Harrison,
Assistant Secretary for Educational and Cultural Affairs, Department of State.

[FR Doc. 02-17454 Filed 7-10-02; 8:45 am]

BILLING CODE 4710-05-P